DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance 1/6/2011 Through 1/19/2011
Firm name | Address | Date accepted for investigation | Products
Electro Soft, Inc | 113 Keystone Drive, Montgomeryville, PA 18936 | 07-Jan-11 | The firm manufactures printed circuit board assemblies, wire harnesses, cable assemblies, and electronic enclosure assemblies.
Heritage Mold, Inc | 3170 Forest View Road, Rockford, IL 61109-1642 | 12-Jan-11 | The firm manufactures plastic tooling for the hobby, electrical, telecommunications, automotive, military, personal care and consumer products industries.
Hydra-Pro, Inc | 2260 W Commodore Way, Seattle, WA 98199 | 12-Jan-11 | The firm manufactures custom marine and offshore cranes.
Jensen Tuna Inc | 5885 Highway 311, Houma, LA 70360 | 06-Jan-11 | The firm processes fresh fish from basic cleaning to custom cuts and packaging.
Ormec Systems Corp | 19 Linden Park, Rochester, NY 14625-2712 | 12-Jan-11 | The firm develops, manufactures, and sells motion control products and services for factory automation.
ProtoCAM | 3848 Cherryville Road, Northampton, PA 18067 | 11-Jan-11 | The firm provides rapid prototyping, prototype development, and manufacturing engineering consulting services.
Silicon Carbide Products, Inc | 361 Daniel Zenker Drive, Horseheads, NY 14845 | 40553 | The firm custom manufactures various wear and corrosion resistant silicon carbide components for industrial customers.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: January 19, 2011.
Miriam Kearse,
Eligibility Certifier.

[FR Doc. 2011-1450 Filed 1-24-11; 8:45 am]

BILLING CODE 3510-24-P